INTERNATIONAL BOUNDARY AND WATER COMMISSION, UNITED STATES AND MEXICO

United States Section

Notice of Availability of Draft Environmental Impact Statement and Notice of Public Meetings for the El Paso-Las Cruces Regional Sustainable Water Project, Sierra and Doña Ana Counties, NM and El Paso County, TX

AGENCY: United States Section, International Boundary and Water Commission, United States and Mexico.

ACTION: Notice of Availability of Draft Environmental Impact Statement and Notice of Public Meeting.

SUMMARY: Pursuant to section 102(2)(c) of the National Environmental Policy Act of 1969, as amended, the United States Section, International Boundary and Water Commission (USIBWC) in conjunction with the El Paso Water Utilities/Public Service Board has prepared a draft environmental impact statement (DEIS) on the El Paso-Las Cruces Regional Sustainable Water Project in Sierra and Doña Ana counties, New Mexico and El Paso County, Texas as proposed by the New Mexico-Texas Water Commission. The DEIS analyzes the no action alternative and the impacts of five action alternatives from construction and operation of the project. Public meetings will also be held to discuss and receive comments on the DEIS from interested organizations and individuals.

DATES: Written comments are requested by June 13, 2000. Public meetings will be held on May 2, 3, and 4, 2000 in Anthony and Las Cruces, New Mexico and in El Paso, Texas, respectively. See addresses below for location and time.

ADDRESSES: Comments should be addressed to: Mr. Douglas Echlin, Environmental Protection Specialist, Environmental Management Division, USIBWC, 4171 North Mesa Street, C-310, El Paso, Texas 79902.

Three public scoping meetings will be conducted from 4:00 to 7:00 p.m. MDT each day on Tuesday, May 2, 2000 at the Gadsden Middle School Cafeteria, 1325 West Washington, Anthony, New Mexico; on Wednesday, May 3, 2000 at the Farm and Ranch Heritage Museum, 4100 Dripping Springs Road, Las Cruces, New Mexico; and on Thursday, May 4, 2000 at Chamizal National Memorial, 800 South San Marcial, El Paso, Texas.

Copies of the DEIS are available for inspection and review at the following locations: Branigan Memorial Library, 200 East Picacho Avenue, Las Cruces, New Mexico; El Paso Public Library, 501 North Oregon Street, El Paso, Texas; New Mexico State University Library, Las Cruces, New Mexico; University Library, The University of Texas at El Paso, El Paso, Texas; El Paso Water Utilities, 1154 Hawkins Boulevard, El Paso, Texas; and United States Section, International Boundary and Water Commission, 4171 North Mesa Street, El Paso, Texas.

FOR FURTHER INFORMATION CONTACT: Mr. Douglas Echlin, Environmental Protection Specialist, Environmental Management Division, USIBWC, 4171 North Mesa Street, C-310, El Paso, Texas 79902 or call 915/832-4741. E-mail: dougechlin@ibwc.state.gov.

SUPPLEMENTARY INFORMATION: The New Mexico-Texas Water Commission, established in 1991 to help meet the water resource challenges of the region, proposed the El Paso-Las Cruces Regional Sustainable Water Project to secure future drinking water supplies from surface sources for the El Paso-Las Cruces region. The project includes the acquisition, conveyance, treatment, and distribution of a drinking water supply, and upgrading or constructing facilities for water conveyance, treatment, distribution, and aquifer storage and recovery. These activities comprise the following three project purposes:

• Provide a year-round drinking water supply from the Rio Grande Project that is of sufficient quantity and quality to meet the anticipated municipal needs of Hatch; Las Cruces; northern and southern Doña Ana County; and El Paso.

• Protect and maintain the sustainability of the Mesilla Bolson (ground water basin or aquifer).

• Extend the longevity of the Hueco Bolson.

• Project alternatives presented in this DEIS were designed to achieve these three project purposes. In addition, the project will strive to meet the following criteria:

• The project should attempt to provide high quality water needed to achieve successful treatment and to meet federal drinking water standards.

• The project should seek to deliver water efficiently, and to promote water conservation.

• The project should provide overall benefits to the riverine ecosystem, particularly aquatic and riparian habitats.

The project recognizes and accepts existing institutional and social constraints. The project would continue to meet treaty, compact, and contract requirements for delivery of Rio Grande Project waters. The project would not adversely affect the quantity and quality of water deliveries to agricultural users; impose new responsibilities on state or federal governments; or preclude other opportunities to enhance the Rio Grande ecosystem.

The need for this project is based on the region's future drinking water supply requirements. The project is necessary to avoid both potentially permanent impacts on the Mesilla and Hueco Bolsons and critical drinking water shortages in the El Paso-Las Cruces region. Population growth rates have increased sharply, increasing the demand for drinking water. It is projected that the Texas portion of the Hueco Bolson will be exhausted of all fresh water by the year 2025 because water is being pumped from the aquifer faster than it can be naturally replenished. If additional surface waters are not made available to supplement the drinking water supply, water shortages in the region will likely lead to severe health and sanitation problems.

A copy of the Draft EIS has been filed with the Environmental Protection Agency EPA in accordance with 40 CFR Parts 1500-1508 and USIBWC procedures. Written comments concerning the Draft EIS will be accepted at the address provided above until June 13, 2000.

Dated: March 29, 2000.
William A. Wilcox, Jr.,
Legal Advisor.

[FR Doc. 00-8207 Filed 4-3-00; 8:45 am]

BILLING CODE 4710-03-P